DEPARTMENT OF TRANSPORTATION

Research and Special Programs Administration

[Docket 98-4957 Notice 23]

Extension of Existing Information Collection: Public Comment Request and OMB Approval

AGENCY: Research and Special Programs Administration (RSPA), DOT.

ACTION: Request for Public Comment and OMB Approval.

SUMMARY: This is the second notice of requests for public participation in the Office of Management and Budget (OMB) approval process for extension of an existing Research and Special Programs Administration (RSPA) collection of information. RSPA is requesting OMB approval of information collection 2137-0596, National Pipeline Mapping System (NPMS) under the Paperwork Reduction Act of 1995 and 5 CFR Part 1320. RSPA published its first request in the Federal Register on September 7, 2000 (65 FR 54336). The Paperwork Reduction Act gives the public a second chance to provide comments on information collection requests.

DATES: Comments on this notice must be received by January 8, 2001 to be assured of consideration.

ADDRESSES: Interested persons are invited to send comments directly to OMB, Office of Information and Regulatory Affairs, 726 Jackson Place, NW., Washington, DC 20503 Attn: Desk Officer for DOT. Please identify the docket and notice numbers shown in the heading of this notice.

FOR FURTHER INFORMATION CONTACT: Marvin Fell, (202) 366-6205, to ask questions about this notice; or write by e-mail to marvin.fell@rspa.dot.gov.

SUPPLEMENTARY INFORMATION: Title: National Pipeline Mapping System.

Type of Request: Extension of existing information collection.

Abstract: RSPA's Office of Pipeline Safety (OPS), along with state agencies, has been working with natural gas and hazardous liquid pipeline operators to develop NPMS. When complete, this system will depict and provide data on all natural gas transmission and hazardous liquid pipeline systems operating in the United States. OPS is extending its volunteer pilot program to all regulated transmission operators. OPS will be compensating the states and regional repositories for their startup and operating costs. Four commenters, three hazardous gas pipeline operators and one trade association provided comments. The following is a summary of their comments and OPS's response to their concerns.

OPS has worked with the pipeline industry since November 1994 on the development of a voluntary NPMS. This process has included two government/industry mapping teams who worked together to identify the most cost effective way for the pipeline industry to share data with OPS and the states. Additionally OPS has conducted four mapping workshops. OPS has made every effort to develop its voluntary mapping system which is flexible offering the opportunity for either hard copy or digital submissions from operators.

NPMS is important for regulatory oversight by both the states and the Federal government. Additionally, it is essential for the public's right-to-know. A few commenters questioned OPS' estimates of the time required to provide mapping data. OPS has revised upwards its initial estimate of 20 hours per operator to 30 hours. OPS notes that a commentor suggested that the required estimate could be up to 5,200 hours. OPS believes that this represents operators converting from hand drawn maps to digital mapping. This is not what is being requested by OPS. OPS is accepting hand drawn maps.

Some commenters questioned the need for a NPMS. One purpose for NPMS is to standardize the maps and reduce the burdens of operators responding to different requests from state officials.

Some commenters had concerns with the definition of transmission lines. This is outside the scope of this information collection.

One commenter questioned the accuracy goal of ±500 feet. OPS believes that the data submitted is much more accurate than this goal. The accuracy level is generally from 40-100 feet.

One commenter had concerns about the security of providing pipeline mapping. OPS believes that the limited pipeline data provided OPS does not pose a security threat.

Estimate of Burden: 30 hours per operator.

Respondents: Gas transmission and hazardous liquid operators.

Estimated Number of Respondents: 1350.

Estimated Number of Responses per Respondent: 1.

Estimated Total Annual Burden on Respondents: 40,500 hours.

This document can be reviewed between 10 a.m.-5 p.m. Monday through Friday, except Federal holidays, at the Dockets Facility, DOT, Room PL-401, 400 Seventh St., SW., Washington, DC 20590.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC on December 1, 2000.
Stacey L. Gerard,
Associate Administrator for Pipeline Safety.

[FR Doc. 00-31225 Filed 12-6-00; 8:45 am]

BILLING CODE 4910-60-P